DEPARTMENT OF TRANSPORTATION

Research and Innovative Technology Administration

Advisory Council on Transportation Statistics; Notice of Meeting

AGENCY: Research and Innovative, Technology Administration, U.S. Department of Transportation.

ACTION: Notice.

This notice announces, pursuant to Section 10(a)(2) of the Federal Advisory Committee Act (FACA) (Pub. L. 72-363; 5 U.S.C. app. 2), a meeting of the Advisory Council on Transportation Statistics (ACTS). The meeting will be held on Wednesday, September 28, 2011, from 9 a.m. to 4:30 p.m. E.S.T. in the Oklahoma City Room at the U.S. Department of Transportation, 1200 New Jersey Ave., SE., Washington, DC. Section 5601(o) of the Safe, Accountable, Flexible, Efficient Transportation Equity Act: A Legacy for Users (SAFETEA-LU) directs the U.S. Department of Transportation to establish an Advisory Council on Transportation Statistics subject to the Federal Advisory Committee Act (5 U.S.C., App. 2) to advise the Bureau of Transportation Statistics (BTS) on the quality, reliability, consistency, objectivity, and relevance of transportation statistics and analyses collected, supported, or disseminated by the Bureau and the Department. The following is a summary of the draft meeting agenda: (1) USDOT welcome and introduction of Council Members; (2) Overview of prior meeting; (3) Discussion of the FY 2012 budget; (4) Discussion of private sources of transportation data; (5) Council Members review and discussion of statistical programs; (6) future Council activities and (7) Public Comments and Closing Remarks. Participation is open to the public. Members of the public who wish to participate must notify Courtney Freiberg at Courtney.Freiberg@dot.gov, not later than September 15, 2011. Members of the public may present oral statements at the meeting with the approval of Steven K. Smith, Deputy Director of the Bureau of Transportation Statistics. Noncommittee members wishing to present oral statements or obtain information should contact Courtney Freiberg via e-mail no later than September 15, 2011.

Questions about the agenda or written comments may be e-mailed or submitted by U.S. Mail to: U.S. Department of Transportation, Research and Innovative Technology Administration, Bureau of Transportation Statistics, Attention: Courtney Freiberg, 1200 New Jersey Avenue, SE., Room # E34-429, Washington, DC 20590, Courtney.Freiberg@dot.gov, or faxed to (202) 366-3640. BTS requests that written comments be received by September 15, 2011. Access to the DOT Headquarters building is controlled therefore all persons who plan to attend the meeting must notify Mrs. Courtney Freiberg at 202-366-1270 prior to September 15, 2011. Individuals attending the meeting must report to the main DOT entrance on New Jersey Avenue, SE. for admission to the building. Attendance is open to the public, but limited space is available. Persons with a disability requiring special services, such as an interpreter for the hearing impaired, should contact Mrs. Freiberg at 202-366-1270 at least seven calendar days prior to the meeting.

Notice of this meeting is provided in accordance with the FACA and the General Services Administration regulations (41 CFR part 102-3) covering management of Federal advisory committees.

Issued in Washington, DC, on the 1st day of August 2011.
Steven K. Smith,
Deputy Director, Bureau of Transportation Statistics.

[FR Doc. 2011-20674 Filed 8-12-11; 8:45 am]

BILLING CODE 4910-HY-P